DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 58416-58417 dated September 24, 2010).

This notice reflects organizational changes to the Health Resources and Services Administration and updates the functional statement for the Bureau of Primary Health Care (RC). Specifically, this notice (1) Creates the Office of Administrative Management (RCM) and the Office of Training and Technical Assistance Coordination (RCS); (2) abolishes the Division of Health Information Technology State and Community Assistance (RCR); (3) renames the Office of Minority and Special Populations (RCG) to the Office of Special Population Health (RCG); and (4) abolishes the Eastern Division (RCN), the Central Mid-Atlantic Division (RCP), and the Western Division (RCQ); and establishes the Northeast Division (RCU), Central Southeast Division (RCV), the North Central Division (RCT); and the Southwest Division (RCW), to better align the regional functions of the Bureau.

Chapter RC—Bureau of Primary Health Care

Section RC-10, Organization

Delete in its entirety and replace with the following:

The Office of the Associate Administrator (RC) is headed by the Associate Administrator, Bureau of Primary Health Care (BPHC), who reports directly to the Administrator, Health Resources and Services Administration. BPHC includes the following components:

(1) Office of the Associate Administrator (RC);

(2) Office of Administrative Management (RCM);

(3) Office of Training and Technical Assistance Coordination (RCS);

(4) Office of Policy and Program Development (RCH);

(5) Office of Quality and Data (RCK);

(6) Office of Special Population Health (RCG);

(7) Northeast Division (RCU);

(8) Central Southeast Division (RCV);

(9) North Central Division (RCT);

(10) Southwest Division (RCW); and

(11) Division of National Hansen's Disease Program (RC7).

Section RC-20, Functions

(1) Delete the functional statement for the Bureau of Primary Health Care (RC) and replace in its entirety.

Office of the Associate Administrator (RC)

Provides overall leadership, direction, coordination, and planning in support of BPHC programs. Specifically: (1) Establishes program goals, objectives and priorities, and provides oversight to their execution; (2) plans, directs, coordinates and evaluates BPHC-wide management activities; and (3) maintains effective relationships within HRSA and with other Department of Health and Human Services (HHS) organizations, other Federal agencies, State and local governments, and other public and private organizations concerned with primary health care, eliminating health disparities, and improving the health status of the Nation's underserved and vulnerable populations.

Office of Administrative Management (RCM)

Plans, directs and coordinates BPHC-wide administrative management activities. Specifically: (1) Serves as BPHC's principal source for administrative and management advice and assistance; (2) provides guidance and coordinates personnel activities for BPHC; (3) provides organization and management analysis, coordinating the allocation of personnel resources, developing policies and procedures for internal operations, interpreting and implementing BPHC management policies, procedures and systems; (4) develops and coordinates BPHC program and administrative delegations of authority activities; (5) provides guidance to BPHC on financial management activities; (6) provides BPHC-wide support services such as continuity of operations and emergency planning, contracts, procurement, supply management, equipment utilization, printing, property management, space management, records management, and management reports; (7) serves as BPHC Executive Secretariat; (8) serves as BPHC focal point for the design and implementation of management information systems to assess and improve program performance and internal operations; and (9) coordinates BPHC administrative management activities with other components within HRSA and HHS, and with other Federal agencies, State and local governments, and other public and private organizations, as appropriate.

Office of Training and Technical Assistance Coordination (RCS)

Serves as the organizational focus for the coordination of training and technical assistance activities for BPHC programs and staff. Specifically: (1) Leads and coordinates training and technical assistance activities and resources for BPHC programs and staff; (2) serves as BPHC principal contact and information resource for training and technical assistance; (3) identifies key training and technical assistance needs of BPHC programs and staff, and develops programs to address them; (4) manages training and technical assistance cooperative agreements and contracts; (5) coordinates BPHC technical assistance and training activities within HRSA and HHS, and with other Federal agencies, State and local governments, and other public and private organizations concerned with primary health care, eliminating health disparities, and improving the health status of the Nation's underserved and vulnerable populations; and (6) provides support and coordination for emergency preparedness and response.

Office of Policy and Program Development (RCH)

Serves as the organizational focus for the development of BPHC programs and policies. Specifically: (1) Leads and monitors the development and expansion of primary care programs, including health centers and other health systems; (2) identifies and provides assistance to communities, community-based organizations, and BPHC programs related to the development and expansion of primary care programs; (3) manages BPHC capital and loan guarantee programs; (4) leads and coordinates the analysis, development and drafting of policy impacting BPHC programs; (5) consults and coordinates with other components within HRSA and HHS, and with other Federal agencies, State and local governments, and other public and private organizations on issues affecting BPHC programs and policies; (6) performs environmental scanning on issues that affect BPHC programs; (7) monitors BPHC activities in relation to the HRSA and HHS Strategic Plan; and (8) serves as BPHC focal point for communication and program information.

Office of Quality and Data (RCK)

Serves as the organizational focus for BPHC program performance, clinical and operational quality improvement, data reporting, and program evaluation. Specifically: (1) Provides leadership for implementing BPHC clinical quality and performance improvement strategies/initiatives, including health information technology; (2) oversees BPHC Federal Tort Claims Act (FTCA) medical malpractice liability programs, reviewing clinical, quality improvement, risk management, and patient safety activities to improve policies and programs for primary health care services, including clinical information systems; (3) leads and coordinates BPHC accreditation and national quality recognition programs; (4) coordinates BPHC clinical, quality and performance reporting activities within HRSA and HHS, and with other Federal agencies, State and local governments, and other public and private organizations concerned with primary health care, eliminating health disparities, and improving the health status of the Nation's underserved and vulnerable populations; (5) identifies and provides assistance to BPHC programs around clinical, quality and performance reporting activities; and (6) serves as BPHC focal point for the design and implementation of program evaluations.

Office of Special Population Health (RCG)

Serves as the organizational focus for the coordination of BPHC activities relating to the delivery of health services to special populations, including: migrant and seasonal farm workers, homeless persons and residents of public housing, school children, minorities and other vulnerable populations. Specifically: (1) Ensures that the needs and special circumstances of special populations and the provider organizations that serve them are addressed in BPHC programs and policies; (2) advises BPHC about the needs of special populations; (3) identifies and provides assistance to communities, community-based organizations and BPHC programs related to the development, delivery and expansion of services targeted to special populations; (4) coordinates BPHC activities for special populations within HRSA and HHS, and with other Federal agencies, State and local governments, and other public and private organizations concerned with primary health care, eliminating health disparities, and improving the health status of the Nation's underserved and vulnerable populations; and (5) provides support to the National Advisory Council on Migrant Health.

Northeast Division (RCU)

Manages BPHC primary health care service delivery programs and associated activities within HHS Regions I, II and III. Specifically: for Regions I, II and III, (1) Manages the post-award/designation administration of BPHC primary health care service delivery programs, including State-based training and technical assistance; (2) serves as BPHC representative to organizations receiving BPHC service delivery grants/designations; (3) promotes a continued focus on quality, cost-effective care for underserved and vulnerable populations; (4) identifies and provides assistance on program-related statutory/regulatory policy, and program reporting requirements; (5) monitors the performance of BPHC primary health care service delivery programs, making programmatic recommendations and providing assistance to improve performance, where appropriate; (6) reviews findings and recommendations of periodic and episodic grantee assessments, developing actions needed to assure continuity of services to underserved and vulnerable populations and appropriate use of Federal resources; (7) provides technical guidance to grantees on the management and integration of community-based systems of care, the adaptation of successful strategies/models, and the resolution of difficult issues; (8) conducts State and regional surveillance on issues that affect BPHC primary health care service delivery programs; and (9) provides consultation to and coordinates activities within HRSA and HHS, and with other Federal agencies, State and local governments, and other public and private organizations involved in the implementation of BPHC primary health care service delivery programs.

Central Southeast Division (RCV)

Manages BPHC primary health care service delivery programs and associated activities within HHS Regions IV and VII. Specifically: For regions IV and VII, (1) Manages the post-award/designation administration of BPHC primary health care service delivery programs, including State-based training and technical assistance; (2) serves as BPHC representative to organizations receiving BPHC service delivery grants/designations; (3) promotes a continued focus on quality, cost-effective care for underserved and vulnerable populations; (4) identifies and provides assistance on program-related statutory/regulatory policy, and program reporting requirements; (5) monitors the performance of BPHC primary health care service delivery programs, making programmatic recommendations and providing assistance to improve performance, where appropriate; (6) reviews findings and recommendations of periodic and episodic grantee assessments, developing actions needed to assure continuity of services to underserved and vulnerable populations and appropriate use of Federal resources; (7) provides technical guidance to grantees on the management and integration of community-based systems of care, the adaptation of successful strategies/models, and the resolution of difficult issues; (8) conducts State and regional surveillance on issues that affect BPHC primary health care service delivery programs; and (9) provides consultation to and coordinates activities within HRSA and HHS, and with other Federal agencies, State and local governments, and other public and private organizations involved in the implementation of BPHC primary health care service delivery programs.

North Central Division (RCT)

Manages BPHC primary health care service delivery programs and associated activities within HHS Regions V, VIII and X. Specifically: for Regions V, VIII and X, (1) Manages the post-award/designation administration of BPHC primary health care service delivery programs, including State-based training and technical assistance; (2) serves as BPHC representative to organizations receiving BPHC service delivery grants/designations; (3) promotes a continued focus on quality, cost-effective care for underserved and vulnerable populations; (4) identifies and provides assistance on program-related statutory/regulatory, policy, and program reporting requirements; (5) monitors the performance of BPHC primary health care service delivery programs, making programmatic recommendations and providing assistance to improve performance, where appropriate; (6) reviews findings and recommendations of periodic and episodic grantee assessments, developing actions needed to assure continuity of services to underserved and vulnerable populations and appropriate use of Federal resources; (7) provides technical guidance to grantees on the management and integration of community-based systems of care, the adaptation of successful strategies/models, and the resolution of difficult issues; (8) conducts State and regional surveillance on issues that affect BPHC primary health care service delivery programs; and (9) provides consultation to and coordinates activities within HRSA and HHS, and with other Federal agencies, State and local governments, and other public and private organizations involved in the implementation of BPHC primary health care service delivery programs.

Southwest Division (RCW)

Manages BPHC primary health care service delivery programs and associated activities within HHS Regions VI and IX. Specifically: for Regions VI and IX, (1) Manages the post-award/designation administration of BPHC primary health care service delivery programs, including State-based training and technical assistance; (2) serves as BPHC representative to organizations receiving BPHC service delivery grants/designations; (3) promotes a continued focus on quality, cost-effective care for underserved and vulnerable populations; (4) identifies and provides assistance on program-related statutory/regulatory policy, and program reporting requirements; (5) monitors the performance of BPHC primary health care service delivery programs, making programmatic recommendations and providing assistance to improve performance, where appropriate; (6) reviews findings and recommendations of periodic and episodic grantee assessments, developing actions needed to assure continuity of services to underserved and vulnerable populations and appropriate use of Federal resources; (7) provides technical guidance to grantees on the management and integration of community-based systems of care, the adaptation of successful strategies/models, and the resolution of difficult issues; (8) conducts State and regional surveillance on issues that affect BPHC primary health care service delivery programs; and (9) provides consultation to and coordinates activities within HRSA and HHS, and with other Federal agencies, State and local governments, and other public and private organizations involved in the implementation of BPHC primary health care service delivery programs.

Division of National Hansen's Disease Program (RC7)

Manages the National Hansen's Disease Program in accordance with regulations of the Public Health Service. Specifically: (1) Provides care and treatment for persons with Hansen's disease, including managing a national outpatient health care delivery program; (2) conducts research and provides education and training on Hansen's disease; and (3) provides consultation to and coordinates activities within HRSA and HHS, and with other Federal agencies, State and local governments, and other public and private organizations involved in Hansen's disease activities.

Section RC-30, Delegations of Authority

All delegations of authority and re-delegations of authority made to HRSA officials that were in effect immediately prior to this reorganization, and that are consistent with this reorganization, shall continue in effect pending further re-delegation.

This reorganization is upon date of signature.

Dated: September 27, 2010.
Mary K. Wakefield,
Administrator.

[FR Doc. 2010-24749 Filed 10-1-10; 8:45 am]

BILLING CODE 4165-15-P